ENVIRONMENTAL PROTECTION AGENCY

[FRL-7488-9]

Science Advisory Board; Request for Comments on the Use of the Environmental Engineering Committee for a Consultation and Notification of Two Environmental Engineering Committee Meetings

AGENCY: Environmental Protection Agency (EPA).

ACTION: Notice.

SUMMARY: The EPA, SAB is announcing that the Environmental Engineering Committee, a standing committee of the SAB, will provide a consultation on improving leach testing of waste at a conference call May 16 and a face-to-face meeting June 17-19, 2003. The Staff Office solicits comments from the public about the appropriateness of the use of the EEC for this consultation.

DATES: Comments on the use of the EEC for this consultation should be submitted no later than May 19, 2003. The conference call meeting will be held Friday May 16, 2003 from 12:30-2:30 p.m. Eastern Time. The face-to-face meeting will be held June 17-18, 2003. The meeting will begin each day at 9 a.m., adjourn no later than 6 p.m. on Tuesday June 17 and no later than 4 p.m. on Wednesday June 18.

ADDRESSES: Any member of the public wishing to provide comment on the proposed use of the EEC for this consultation should contact the individual named below. The roster for the EEC and biosketches for its members can be viewed on the SAB Web site http://www.epa.gov/sab/eecconsultationonleaching.html. Participation in the May 16, 2003 conference call meeting will be by teleconference only. The June 17-18, 2003 face-to-face meeting will be held in the metropolitan Washington DC area; the specific location will be announced in a subsequent Federal Register notice.

FOR FURTHER INFORMATION CONTACT: Any member of the public wishing further information regarding the conference call, face-to-face meeting, or the use of the EEC for this consultation may contact Ms. Kathleen White, Designated Federal Officer (DFO), U.S. EPA Science Advisory Board (1400A), 1200 Pennsylvania Avenue NW, Washington DC 20460-0001 (for overnight delivery, please specify room 6450 Z and use zip code 20004). Ms. White can also be reached by telephone/voice mail at (202) 564-4559, by fax at (202) 501-0582; or via e-mail at white.kathleen@epa.gov.

SUPPLEMENTARY INFORMATION: Summary: The EPA SAB is announcing that the Environmental Engineering Committee, a standing committee of the SAB, will provide a consultation on improving leach testing of waste at a face-to-face meeting June 17-19, 2003. Planning for the face-to-face meeting will take place at a conference call meeting to be held May 16. The public is offered the opportunity to comment on the appropriateness of the use of the EEC for this consultation.

Background—The Resource Conservation and Recovery Act (RCRA) defines hazardous wastes as solid wastes that may pose a substantial present or potential hazard to human health and the environment when improperly managed. When EPA promulgated characteristics that classify wastes as hazardous by virtue of their inherent properties (45 FR 33084, May 19, 1980), it established two criteria for identifying hazardous waste characteristics: “(1) The characteristic should be capable of being defined in terms of physical, chemical or other properties which cause the waste to meet the statutory definition of hazardous waste and (2) the properties defining the characteristic must be measurably standardized and available testing protocols.” Under this rule, the potential for certain wastes to leach significant concentrations of toxic substances is a defining characteristic. At present, EPA uses the Toxicity Characteristic Leaching Procedure (TCLP) as a regulatory screening test to identify wastes which exhibit such leaching behavior under plausible worst-case management conditions. TCLP is also used for determining whether required treatment of hazardous waste has been adequately done. TCLP therefore does not address all parameters and scenarios.

EPA believes that TCLP remains an appropriate and valid test in its regulatory functions. The Agency also believes that leach testing more tailored to known disposal conditions can be the basis for better environmental decisionmaking, when regulatory programs allow such flexibility. EPA has initiated both internal and external research to begin work toward a more comprehensive assessment framework and set of testing protocols for evaluation of leaching potential of waste materials under relevant environmental conditions.

In 1999, the Science Advisory Board provided the EPA with a commentary, Waste Leachability: The Need for Review of Current Agency Procedures. (This commentary is available at http://www.epa.gov/sab/pdf/eecm9902.pdf.) Since then there has been progress in both understanding leaching mechanisms and in test method development. EPA is now seeking input from the SAB on the direction of work performed to date and the Agency's consideration of recent and ongoing academic research. EPA's Office of Solid Waste is preparing a short background document in support of the consultation which will be posted on the SAB's Web site (http://www.epa.gov/sab/eecconsultationonleaching.html) no later than June 3, 2003 along with an updated charge for the consultation.

Charge: While many questions and much research remain, EPA seeks an opportunity for a consultation with the SAB before it embarks on further effort to develop a more comprehensive assessment framework and set of testing protocols for use in important areas such as waste reuse and site remediation. At this consultation, EPA will describe for the EEC the direction of work performed and issues relating to recent and ongoing research on leach testing. EPA does not look for consensus recommendations at this time. Instead it seeks a variety of perspectives to enrich its understanding of two issues. One is the potential for long-term research work to develop a fundamental understanding of leaching that would improve the predictive capability of test suites or testing frameworks. The second issue is identifying modest short-term changes that could potentially improve particular programs, specifically programs that do not now require the use of the TCLP.

Opportunity to Comment on Suitability of the EEC for this Consultation: The SAB Staff Office has determined that the following expertise is needed for the consultation on improving leach testing of waste which will be held at the June 17-18 meeting: environmental chemistry and microbiology; industrial wastes; leaching, transport and fate; modeling; quality systems; remediation of contaminated sites; soils and subsurface systems; and waste management. Because the Staff Office has further determined that the EEC has the necessary expertise to conduct this consultation without the need for additional expert consultants, it is not soliciting additional experts for this consultation.

The public has the opportunity to provide information, analysis or other documentation relevant to the use of the EEC for this consultation. To facilitate this, biosketches for the EEC members will be posted on the SAB Web site http://www.epa.gov/sab/eecconsultationonleaching.html. Those wishing to comment should contact the DFO, Ms. Kathleen White, whose contact information is provided above.

Definitions: For the EPA SAB, a balanced committee is characterized by inclusion of individuals who possess the necessary domains of knowledge, the relevant scientific perspective, and the collective breadth of expertise to adequately address the charge.

A “consultation” is one of several types of formal interaction between EPA and the Science Advisory Board. The purpose of a consultation is to conduct an early discussion between EPA and the SAB to help articulate important issues in the development of a project. The meeting is public and consists of briefings and discussions. In some cases a partial document, or an early draft is available to serve as the basis for discussions. A charge is often used. No consensus advice is sought and no report is generated by the SAB.

Teleconference Meeting: The EEC will meet by conference call Friday May 16, 2003 from 12:30 to 1:30 p.m. Eastern Standard Time. The conference call will be used to plan the June 17-18, 2003 face-to-face meeting and is likely to include briefings relevant to the leaching consultation as well as other items of committee business. Participation will be by teleconference only. A limited number of lines are available. To participate, please contact the DFO above no later than the day before the meeting.

Face-to-face Meeting: The EEC will meet face-to-face on Tuesday and Wednesday June 17-18, 2003 to participate in a consultation with the EPA's Office of Solid Waste on improving Agency leach testing of waste and conduct other Committee business.

General Information: The SAB was established by 42 U.S.C. 4365 to provide independent scientific and technical advice, consultation, and recommendations to the EPA Administrator on the technical basis for Agency positions and regulations. This committee of the SAB will comply with the provisions of the Federal Advisory Committee Act (FACA) and all appropriate SAB policies and procedures. General information concerning the EPA Science Advisory Board can be found on the EPA Web site at http://www.epa.gov/sab.

Agendas for the meetings that are the subject of this notice will be posted on the SAB Web site (www.epa.gov/sab) (under the AGENDAs subheading) approximately 10 days before the meeting. Other materials that may be available will also be posted on the SAB Web site in this time-frame, linked to the calendar entry for this meeting (http://www.epa.gov/sab/mtgcal.htm.)

It is the policy of the EPA Science Advisory Board (SAB) to accept written public comments of any length, and to accommodate oral public comments whenever possible. The EPA SAB expects that public statements presented at its meetings will not be repetitive of previously submitted oral or written statements.

Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) at least one week prior to the meeting in order to be placed on the public speaker list for the meeting. Speakers may attend the meeting and provide comment up to the meeting time. Speakers should bring at least 35 copies of their comments and presentation slides for distribution to the participants and public at the meeting.

Written Comments: Although the SAB accepts written comments until the date of the meeting (unless otherwise stated), written comments should be received in the SAB Staff Office at least one week prior to the meeting date so that the comments may be made available to the committee for their consideration. Comments should be supplied to the appropriate DFO at the address/contact information noted below in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting.

Meeting Accommodations: Individuals requiring special accommodation to access these meetings, should contact the DFO at least five business days prior to the meeting so that appropriate arrangements can be made.

Dated: April 22, 2003.
Vanessa T. Vu,
Director, EPA Science Advisory Board Staff Office.

[FR Doc. 03-10399 Filed 4-25-03; 8:45 am]

BILLING CODE 6560-50-P